DEPARTMENT OF COMMERCE

Census Bureau

Proposed Information Collection; Comment Request; 2012 Economic Census of Island Areas

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: To ensure consideration, written comments must be submitted on or before August 8, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument(s) and instructions should be directed to Geoffrey Hill (301) 763-6554 (e-mail: Geoffrey.s.hill@census.gov) or Lillyana Najafzadeh (301) 763-6544 (email: Lillyana.j.Najafzadeh@census.gov).

SUPPLEMENTARY INFORMATION:

I. Abstract

The economic census, conducted under authority of Title 13, United States Code (U.S.C.), is the primary source of facts about the structure and functioning of the United States economy, including Puerto Rico, Guam, the Commonwealth of the Northern Mariana Islands, the U.S. Virgin Islands, and American Samoa. The economic census, is the primary source of facts about each of the island areas' economies, and features the only recognized source of data at a geographic level equivalent to U.S. counties. Economic Census statistics for the island areas serve to benchmark estimates of local net income and gross domestic product, and provide essential information for government (Federal and local), business, and the general public.

The 2012 Economic Census of Island Areas will cover the following sectors (as defined by the North American Industry Classification System (NAICS)): Mining, Utilities, Construction, Manufacturing; Wholesale and Retail Trades, Transportation and Warehousing, Information; Finance and Insurance; Real Estate and Rental and Leasing; Professional, Scientific, and Technical Services; Management of Companies and Enterprises; Administrative and Support, Waste Management and Remediation Services; Educational Services; Health Care and Social Assistance; Arts, Entertainment, and Recreation; Accommodation and Food Services; and Other Services (except Public Administration). This scope is roughly equivalent to that of the stateside economic census. The information collected will produce basic statistics by kind of business on the number of establishments, sales/shipments/receipts/revenue, payroll, and employment. The census will also yield a variety of industry-specific statistics, including sales/receipts by commodity/merchandise/receipt lines, sales/shipments by class of customer, and number of hotel rooms.

To improve calculations of gross domestic product for the island areas, 2012 Economic Census of Island Areas questionnaires include new questions on capital expenditures, depreciation, and selected expenses along with a refinement to the fringe benefits question from the 2007 Economic Census. The collection of data from non-employers in American Samoa has been eliminated from the 2012 Economic Census.

The primary strategy for reducing burden in Census Bureau economic data collection including the Economic Census is to increase electronic reporting through the broader use of electronic collection methods.

II. Method of Collection

The 2012 Economic Census of Island Areas will be conducted using mailout/mailback procedures with an Internet reporting option. Establishments will be selected from the Census Bureau's Business Register. An establishment will be included in the 2012 Island Areas Economic Census if: (a) Is engaged in any of the sectors within the scope of the census listed above; (b) it is an active operating establishment with payroll; and (c) it is located in Puerto Rico, Guam, the Commonwealth of the Northern Mariana Islands, the U.S. Virgin Islands, or American Samoa.

III. Data

OMB Control Number: 0607-0937.

Form Number: The forms used to collect information in Puerto Rico are tailored to specific industries or groups of industries. Puerto Rico forms are available in English as well as Spanish. Only one form, covering all economic activity within the scope of the census, is used for each of the remaining island areas. The forms are too numerous to list individually in this notice. Geoffrey Hill or Lillyana Najafzadeh can provide interested parties with complete information on the forms to be included in this information collection.

Type of Review: Regular submission.

Affected Public: Local Governments, businesses, and other for profit or nonprofit institutions or organizations.

Estimated Number of Respondents: 59,100.

Puerto Rico: 50,000.

Guam: 4,000.

Commonwealth of the Northern Mariana Islands: 1,500.

U.S. Virgin Islands: 3,000.

American Samoa: 600.

Estimated Time per Response:

Puerto Rico: 1 hour.

Guam: 45 minutes.

Commonwealth of Northern Marianas: 45 minutes.

U.S. Virgin Islands: 45 minutes.

American Samoa: 45 minutes.

Estimated Total Annual Burden Hours: 56,825.

Estimated Total Annual Cost: $952,000.

Respondent's Obligation: Mandatory.

Legal Authority: Title 13, U.S.C., Sections 131 and 224.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 2, 2011.
Glenna Mickelson,
Management Analyst, Office of the Chief Information Officer.

[FR Doc. 2011-13969 Filed 6-6-11; 8:45 am]

BILLING CODE 3510-07-P